DEPARTMENT OF LABOR

Employment and Training Administration

[TA-W-54,772]

Metzeler Automotive Profile Systems, Iowa Division, Keokuk, IA; Notice of Revised Determination on Reconsideration Regarding Alternative Trade Adjustment Assistance

By letter dated June 16, 2004, a petitioner requested administrative reconsideration regarding Alternative Trade Adjustment Assistance (ATAA). The certification was signed on May 21, 2004. The notice was published in the Federal Register on June 17, 2004 (69 FR 33942).

The initial investigation determined that the workers possess skills that are easily transferable within the local commuting area.

The petitioner provided new information to show that there are no comparable jobs available in the local commuting area. Additional investigation has determined that a significant number of workers in the workers' firm are fifty years of age or older. Competitive conditions within the industry are adverse.

Conclusion

After careful review of the additional facts obtained on reconsideration, I conclude that the requirements of section 246 of the Trade Act of 1974, as amended, have been met for workers at the subject firm.

In accordance with the provisions of the Act, I make the following certification:

“All workers of Metzeler Automotive Profile System, Iowa Division, Keokuk, Iowa, who became totally or partially separated from employment on or after April 19, 2003, through May 21, 2006, are eligible to apply for adjustment assistance under section 223 of the Trade Act of 1974, and are also eligible to apply for alternative trade adjustment assistance under section 246 of the Trade Act of 1974.”

Signed in Washington, DC, this 13th day of July, 2004.
Elliott S. Kushner,
Certifying Officer, Division of Trade Adjustment Assistance.

[FR Doc. 04-16767 Filed 7-22-04; 8:45 am]

BILLING CODE 4510-30-P